DEPARTMENT OF HEALTH AND HUMAN SERVICES

Centers for Disease Control and Prevention

[Docket Number CDC-2011-0008]

Assessing the Current Research, Policy, and Practice Environment in Public Health Genomics

AGENCY: Centers for Disease Control and Prevention (CDC), Department of Health and Human Services (HHS).

ACTION: Notice; establishment of docket; request for comments, data and information.

SUMMARY: The Centers for Disease Control and Prevention (CDC), located within the Department of Health and Human Services (HHS) is announcing the opening of a docket to solicit comments, data, and other information helpful to assess the current research, policy, and practice environment in public health genomics. HHS/CDC is currently leading a process to assess the most important steps for public health genomics in the next five years.

DATES: Electronic or written comments must be received on or before August 1, 2011.

ADDRESSES: You may submit written comments to the following address: Office of Public Health Genomics, Centers for Disease Control and Prevention, 1600 Clifton Road, NE., MS-E61, Atlanta, Georgia 30333, Attn: Docket No. CDC-2011-0008.

You may also submit comments electronically to http://www.regulations.gov, Docket No. CDC-2011-0008. Please follow directions at http://wwww.regulations.gov to submit comments. All relevant comments received will be posted publicly without change, including any personal or proprietary information provided.

FOR FURTHER INFORMATION CONTACT: Katherine Kolor, PhD, Office of Public Health Genomics, Centers for Disease Control and Prevention, 1600 Clifton Road, NE., MS-E61, Atlanta, GA 30333, e-mail genetics@cdc.gov, phone 404-498-0001.

SUPPLEMENTARY INFORMATION:

I. Background

Since 1997, the Office of Public Health Genomics (OPHG) of the Centers for Disease Control and Prevention (CDC) has worked to integrate genomics into public health research, policy, and programs, which could improve interventions designed to prevent and control the country's leading chronic, infectious, environmental, and occupational diseases. OPHG's efforts focus on conducting population-based genomic research, assessing the role of family health history in disease risk and prevention, supporting a systematic process for evaluating genetic tests, translating genomics into public health research and programs, and strengthening capacity for public health genomics in disease prevention programs. OPHG engages many partners to identify opportunities and challenges for using genomics to impact population health, by addressing important public health issues and improving the effectiveness and efficiency of public health programs.

II. Request for Comments, Data, and Other Information

To help inform the assessment process and strategically plan for the next five years, HHS/CDC is requesting public input to the following questions on public health genomics: (1) What are the most important activities that should be carried out by the public health system in 2012-2017 to apply genomic knowledge to public health goals? (2) What outcomes specific to public health might be achieved as the result of carrying out these activities? (3) What policies are needed in order to achieve these outcomes? (4) What institutions, organizations and agencies need to participate in achieving these outcomes and what roles should they play? (5) What barriers are anticipated in achieving these outcomes and how might they best be overcome?

III. Submission of Comments

Interested persons may submit comments, data, and information (see ADDRESSES) either electronically or written regarding this request. Submitted comments will be available for public review from Monday through Friday, except for legal holidays, from 9 a.m. until 5 p.m. Eastern Standard Time, at 1600 Clifton Road NE., Atlanta, Georgia 30333. Please call ahead to 404-498-0001 and ask for a representative in the Office of Public Health Genomics to schedule your visit.

Dated: June 21, 2011.
Tanja Popovic,
Deputy Associate Director for Science, Centers for Disease Control and Prevention.

[FR Doc. 2011-16422 Filed 6-29-11; 8:45 am]

BILLING CODE 4163-18-P